ENVIRONMENTAL PROTECTION AGENCY

[FRL-9917-47-Region-9]

Strategic Sciences Removal Site, Sylmar, CA; Notice of Proposed CERCLA Settlement Agreement for Recovery of Response Costs

AGENCY: Environmental Protection Agency.

ACTION: Notice; request for comment.

SUMMARY: In accordance with Section 122(i) of the Comprehensive Environmental Response, Compensation and Liability Act of 1980, as amended (CERCLA), 42 U.S.C. 9622(i), notice is hereby given of a proposed administrative settlement with two parties for recovery of response costs concerning the Strategic Sciences Superfund Site in Sylmar, California. The settlement is entered into pursuant to Section 122(h)(1) of CERCLA, 42 U.S.C. 9622(h)(1), and it requires the settling party to pay $40,000 to the United States Environmental Protection Agency (Agency). The settlement includes a covenant not to sue the settling party pursuant to Sections 106 or 107(a) of CERCLA, 42 U.S.C. 9606 or 9607(a). For thirty (30) days following the date of publication of this Notice in the Federal Register, the Agency will receive written comments relating to the settlement. The Agency will consider all comments received and may modify or withdraw its consent to the settlement if comments received disclose facts or considerations which indicate the proposed settlement is inappropriate, improper, or inadequate. The Agency's response to any comments received will be available for public inspection at 75 Hawthorne Street, San Francisco, CA 94105.

DATES: Comments must be submitted on or before November 5, 2014.

ADDRESSES: The proposed settlement is available for public inspection at EPA Region IX, 75 Hawthorne Street, San Francisco, California. A copy of the proposed settlement may be obtained from J. Andrew Helmlinger, EPA Region IX, 75 Hawthorne Street, ORC-3, San Francisco, CA 94105, telephone number 415-972-3904. Comments should reference the Strategic Sciences Superfund Site, Sylmar, California, and should be addressed to J. Andrew Helmlinger at the above address.

FOR FURTHER INFORMATION CONTACT: J. Andrew Helmlinger, Assistant Regional Counsel (ORC-3), Office of Regional Counsel, U.S. EPA Region IX, 75 Hawthorne Street, San Francisco, CA 94105; phone: (415) 972-3904; fax: (417) 947-3570; email: helmlinger.andrew@epa.gov.

SUPPLEMENTARY INFORMATION: Respondent to the Proposed Settlement: K&W Properties, Inc.

Dated: September 25, 2014.
Enrique Manzanilla,
Director, Superfund Division, U.S. EPA, Region IX.

[FR Doc. 2014-23816 Filed 10-3-14; 8:45 am]

BILLING CODE 6560-50-P